DEPARTMENT OF HEALTH AND HUMAN SERVICES

National Institutes of Health

Office of the Secretary: Notice of Meeting

Pursuant to section 10(a) of the Federal Advisory Committee Act, as amended (5 U.S.C. App.), notice is hereby given of a meeting of the Interagency Pain Research Coordinating Committee (IPRCC).

The meeting will be open to the public.

Name of Committee: Interagency Pain Research Coordinating Committee.

Type of meeting: Open Meeting.

Date: May 5, 2017.

Time: 2:00 p.m. to 4:00 p.m. *Eastern Time*.

Agenda: The meeting will include discussion of the Federal Pain Research Strategy and science advances in pain research.

Place: National Institutes of Health, 31 Center Drive, Bethesda, MD 20892, (Telephone Conference Call).

Call-In Number: 1-877-668-4493.

Public Access Code: 622 888 818.

Deadline: Submission of intent to submit written/electronic statement for comments: Monday, May 1, 2017, by 5:00 p.m. ET.

Contact Person: Linda L. Porter, Ph.D., Director, Office of Pain Policy, Officer of the Director, National Institute of Neurological Disorders and Stroke, NIH, 31 Center Drive, Room 8A31, Bethesda, MD 20892, Phone: (301) 451-4460, Email: Linda.Porter@nih.gov.

Please Note: Any member of the public interested in submitting written comments to the Committee must notify the Contact Person listed on this notice by 5:00 p.m. ET on Monday, May 1, 2017, with their request. Interested individuals and representatives of organizations must submit a written/electronic copy of the oral statement/comments including a brief description of the organization represented by 5:00 p.m. ET on Monday, May 1, 2016. Statements submitted will be shared with the committee members and become a part of the public record.

The meeting will be open to the public for audio access through a telephone call in phone number. Members of the public who participate using the conference call phone number will be able to listen to the meeting but will not be heard. If you experience any technical problems with the call line, please call Operator Service on (301) 496-4517 for conference call issues and the NIH IT Service Desk at (301) 496-4357.

Individuals who participate in person or by using these electronic services and who need special assistance, such as captioning of the call or other reasonable accommodations, should submit a request to the Contact Person listed on this notice at least seven days prior to the meeting.

Information about the IPRCC is available on the Web site: http://iprcc.nih.gov/

Dated: April 4, 2017.
Sylvia L. Neal,
Program Analyst, Office of Federal Advisory Committee Policy.

[FR Doc. 2017-06988 Filed 4-6-17; 8:45 am]

BILLING CODE 4140-01-P